SMALL BUSINESS ADMINISTRATION

Region IX Hawaii District Advisory Council; Public Meeting

The U.S. Small Business Administration, Region IX District Advisory Council, located in the geographical area of Honolulu, Hawaii, will hold a public meeting at 10:00 a.m., on Thursday, March 22, 2001, at the Business Information and Counseling Center, 1111 Bishop Street, Suite 204, Training Center, Honolulu, HI 96813; to discuss such matters as may be presented by members, staff of the Small Business Administration or others present. For further information write or call Mr. Andrew K. Poepoe, District Director, U.S. Small Business Administration, 300 Ala Moana Boulevard, Room 2-235, Honolulu, Hawaii 96850; telephone (808) 541-2965.

Nancyellen Gentile,
Committee Management Officer.

[FR Doc. 01-5033 Filed 3-1-01; 8:45 am]

BILLING CODE 8025-01-U